DEPARTMENT OF DEFENSE

Office of the Secretary

Defense Innovation Board; Notice of Federal Advisory Committee Meeting

AGENCY: Deputy Chief Management Officer, Department of Defense.

ACTION: Notice of Federal Advisory Committee meeting.

SUMMARY: The Department of Defense (DoD) is publishing this notice to announce that the following Federal Advisory Committee meeting of the Defense Innovation Board (DIB) will take place.

DATES: Closed to the public Wednesday, January 17, 2018 from 9:00 a.m. to 12:00 p.m. Open to the public Wednesday, January 17, 2018 from 2:00 p.m. to 4:30 p.m.

ADDRESSES: The closed portion of the meeting will be held in the Pentagon. The open portion of the meeting will be held at 1776 Crystal City, 2231 Crystal Drive, Arlington, VA 22202. Additionally, the meeting will be live streamed for those who are unable to physically attend the meeting.

FOR FURTHER INFORMATION CONTACT: Michael L. Gable, (571) 372-0933 (Voice), michael.l.gable.civ@mail.mil (Email). Mailing address is Defense Innovation Board, 9010 Defense Pentagon, Room 5E572, Washington, DC 20301-9010. Website: http://innovation.defense.gov.

SUPPLEMENTARY INFORMATION: Due to circumstances beyond the control of the Designated Federal Officer and the Department of Defense, the Defense Innovation Board was unable to provide public notification concerning its meeting on January 17, 2018, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DIB is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: During the closed portion of the meeting, the DIB will receive classified informational briefings from the Deputy Chief Management Officer related to innovation priorities and DoD business reforms and modernization efforts; from the Chief of Staff of the U.S. Army related to innovation priorities and establishment of the Army Modernization Command; and from senior military representatives from the Army, Navy, Marine Corps, and the Air Force on innovation activities within the Services to build workforce innovation capacity, promote and optimize operational practices for speed and agility, and leverage advances in technology.

During the open portion of the meeting, the DIB will invite selected experts to provide analysis and inputs related to innovation, innovation cells, and innovation activities within DoD related to workforce innovation initiatives. Potential experts include: From the United States Army, Chief of Staff, General Mark Milley; from the Defense Digital Service, Tim Van Name; from the Navy Digital Warfare Office, Margaret Palmieri; from the Office of the Assistant Secretary of Defense for Special Operations and Irregular Warfare, Lt Col Dave Blair, USAF; from the Military District 5 office within the office of the Deputy Assistant Secretary of Defense for Manufacturing and Industrial Base Policy, Morgan Plummer; and from the Chief Data Officer for the U.S. Air Force, Maj Gen Kim Crider. The DIB will deliberate and potentially vote on recommendations to (1) Design a DoD Fast-Track for Major Technology Initiatives, (2) Incubate and Execute New Ideas from the Field, (3) Create a New Innovation, Science, Technology, Engineering, and Mathematics (I-STEM) Career Field, and (4) Establish a Technology and Innovation Training Program for DoD Senior Leaders. The DIB will discuss the initial research and plan for the Software Acquisition Reform (SWAR) study directed in the 2018 National Defense Authorization Act. The DIB's Executive Director will brief the DIB on DoD's latest implementation activities related to DIB recommendations. Members of the public will have an opportunity to provide oral comments to the DIB regarding the DIB's deliberations and potential recommendations. See below for additional information on how to sign up to provide public comments.

Meeting Accessibility: Pursuant to 5 U.S.C. 552b(c)(1), the DoD has determined that the portion of the meeting from 9:00 a.m. to 12:00 p.m. shall be closed to the public. The Assistant Deputy Chief Management Officer, in consultation with the Office of the DoD General Counsel, has determined in writing that this portion of the DIB's meeting will be closed as the discussions will involve classified matters of national security. Such classified material is so inextricably intertwined with the unclassified material that it cannot reasonably be segregated into separate discussions without disclosing matters that are classified SECRET or higher. Pursuant to Federal statutes and regulations (FACA, the Government in the Sunshine Act, and 41 CFR 102-3.140 through 102-3.165) and the availability of space, the meeting is open to the public from 2:00 p.m. to 4:30 p.m. Seating is on a first-come basis. Members of the public wishing to attend the meeting or wanting to receive a link to the live stream webcast should contact the Executive Director to register no later than January 16, 2018, by email at osd.innovation@mail.mil. Members of the media should RSVP to Cmdr. Patrick Evans, Public Affairs Officer, at Patrick.L.Evans.mil@mail.mil.

Special Accommodations: Individuals requiring special accommodations to access the public meeting should contact the Executive Director at least five business days prior to the meeting so that appropriate arrangements can be made.

Written Statements: Pursuant to section 10(a)(3) of the FACA and 41 CFR 102-3.140, the public or interested organizations may submit written comments to the DIB about its approved agenda pertaining to this meeting or at any time regarding the DIB's mission. Individuals submitting a written statement must submit their statement at osd.innovation@mail.mil. The Designated Federal Officer will compile all written submissions and provide them to Board Members for consideration.

Oral Presentations: Individuals wishing to make an oral statement to the DIB at the public meeting may be permitted to speak for up to three minutes. Anyone wishing to speak to the DIB should submit a request by email at osd.innovation@mail.mil not later than January 16, 2018 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: January 10, 2018.
Aaron Siegel,
Alternate OSD Federal Register Liaison Officer, Department of Defense.

[FR Doc. 2018-00620 Filed 1-12-18; 8:45 am]

BILLING CODE 5001-06-P